DEPARTMENT OF ENERGY

Federal Energy Regulatory Commission

Notice of Filing

December 23, 2003.

In the matter of: ER03-1372-002, ER03-1372-001, ER02-1406-002, ER03-1207-001, ER00-891-003, ER03-287-001, ER00-33-004, ER02-1084-001, ER00-1372-002, ER02-2074-001, ER01-811-001, ER97-2153-013, ER00-2677-003, ER03-170-002, ER01-1302-003, ER03-1039-002, ER00-2117-002, ER00-2118-002, ER00-3751-002, ER00-1828-002, ER00-47-002, ER03-725-002, ER02-24-003, ER01-3103-004, ER01-3103-005, ER99-2781-004, ER02-40-003, ER02-1633-001, ER00-2398-005, ER99-2948-003, ER99-1522-002, ER02-669-003, ER99-3502-002, ER01-560-002, ER03-447-002, ER03-447-001, ER03-1284-001, ER03-25-001, ER02-506-003, ER02-2018-003, ER02-246-002, ER01-2104-004, ER00-38-004, ER03-597-002, ER03-290-001, ER00-1115-002, ER02-614-001, ER00-3562-002, ER03-36-002, ER02-1367-002, ER03-259-001, ER03-496-001, ER00-644-002, ER03-342-001, ER03-341-001, ER00-2917-003, ER03-736-002, ER01-2756-003, ER02-579-002, ER02-879-001, ER01-2301-003, ER98-651-002, ER98-4095-003, ER99-2541-004, ER02-2546-002, ER00-2885-003, ER01-2765-002, ER03-509-001, ER03-206-001, ER03-207-001, ER03-208-001, ER03-209-001, ER98-421-012, ER98-4055-009, ER00-1834-003, ER96-2506-006, ER96-2504-008, ER01-1820-005, ER01-1337-004, ER02-177-005, ER02-2569-003, ER03-1371-001, ER03-1369-001, ER03-1368-001, ER02-1486-002, ER95-1739-021, ER03-1326-001, ER01-2659-003, ER00-1770-006, ER02-453-003, ER02-2567-003, ER00-2918-003, ER02-699-002, ER00-607-003, ER01-3017-004, ER01-1363-004, ER96-25-024, ER02-1959-001, ER01-915-001, ER02-2227-002, ER02-2310-001, ER02-963-003, ER03-880-001, ER03-882-001, ER03-879-001, ER96-149-009, ER03-657-002, ER02-600-002, ER99-2506-002, ER03-1123-001, ER97-324-006, ER99-616-002, ER03-1088-001, ER04-72-001, ER02-22-003, ER03-774-001, ER01-3055-003, ER95-428-025, ER03-394-003, ER02-723-001, ER02-1632-001, ER98-4381-007, ER02-564-001, ER02-862-002, ER96-2709-013, ER02-783-002, ER02-852-002, ER02-855-002, ER04-31-001, ER99-1764-004, ER4-135-001, ER02-23-003, ER02-2228-001, ER97-2463-003, ER03-1292-001, ER99-3450-005, ER99-2769-006, ER02-554-002, ER03-775-001, ER03-983-001, ER02-1903-002, ER03-179-003, ER03-1104-001, ER03-1332-001, ER02-1838-002, ER03-1103-001, ER03-1025-002, ER02-2120-002, ER01-2262-004, ER02-1173-001, ER03-908-001, ER03-439-001, ER03-352-002, ER03-352-002, ER99-1983-002, ER01-2688-004, ER03-833-001, ER99-705-002, ER02-2229-001, ER03-114-001, ER02-159-006, ER02-725-002, ER00-3696-003, ER97-3583-003, ER01-556-002, ER02-388-002, ER01-2159-004, ER02-1257-001, ER03-1159-001, ER02-1366-001, ER97-4381-007, ER01-2641-003, ER03-155-002, ER01-558-002, ER00-2333-002, ER02-1081-001, ER00-1026-007, ER02-267-001, ER02-2330-021, ER02-237-001, ER03-796-002, ER01-2689-004, ER01-3121-002, ER02-418-001, ER03-416-004, ER02-2230-001, ER01-2398-006, ER02-73-003, ER03-653-002, ER03-24-001, ER02-2366-001, ER97-2414-006, ER02-361-001, ER02-2408-001, ER95-851-005, ER03-438-002, ER02-309-002, ER99-830-008, ER03-427-003, ER99-4102-002, ER00-2592-002, ER02-256-001, ER01-1265-003, ER01-1266-003, ER01-1268-004, ER02-1213-002, ER01-1271-004, ER03-160-002, ER01-1272-003, ER01-1274-004, ER01-1275-003, ER02-1331-003, ER02-900-002, ER01-480-002, ER02-137-002, ER02-1582-001, ER03-951-003, ER01-1336-003, ER01-751-004, ER03-1315-002, ER02-737-001, ER02-77-001, ER99-221-006, ER00-2887-003, ER01-1654-004, ER02-2085-001, ER02-257-001, ER02-41-004, ER99-220-009, ER02-2080-001, ER01-2783-005, ER00-3240-002, ER98-3897-009, ER02-1021-003, ER00-1463-003, ER02-2435-002, ER03-198-001, ER97-504-010, ER97-2801-004, ER02-2231-001, ER02-580-002, ER03-372-001, ER03-191-001, ER02-2166-002, ER03-1370-002, ER03-568-002, ER95-430-025, ER02-417-001, ER03-845-001, ER02-26-003, ER02-1485-004, ER03-1109-003, ER03-1108-003, ER03-838-002, ER02-1885-001, ER01-1949-003, R03-1151-001, ER01-48-003, ER02-1749-001, ER99-4503-003, ER02-1747-001, ER02-1325-001, ER02-1327-002, ER95-1096-023, ER01-2928-004, ER97-2374-015, ER03-674-001, ER03-745-001, ER03-618-001, ER03-382-001, ER01-3036-003, ER01-3035-003, ER02-1762-001, ER03-81-002, ER01-3109-003, ER03-49-001, ER03-611-001, ER99-970-003, ER03-1288-001, ER02-553-002, ER00-2080-002, ER02-308-001, ER00-1517-003, ER02-556-002, ER03-295-001, ER02-537-003, ER99-2109-005, ER02-2202-004, ER03-42-003, ER02-258-001, ER99-1261-005, ER01-2887-002, ER02-2263-002, ER02-2400-001, ER03-922-002, ER99-3427-005, ER03-1212-003, ER02-1342-002, ER96-2869-006, ER02-2558-001, ER00-840-003, ER94-389-023, ER03-175-005, ER00-1780-003, ER00-1171-002, ER02-25-003, ER01-852-002, ER02-820-001, ER99-3333-005, ER99-1744-004, ER02-360-001, ER02-973-001, ER99-2817-002, ER02-2042-002, ER02-999-003, ER97-2462-013, ER01-557-002, ER02-2101-001, ER02-1336-002, ER03-1283-002, ER03-1283-003, ER00-2839-001, ER03-28-001, ER03-398-002, ER02-1884-001, ER03-1375-001, ER01-3118-002, ER01-3117-002, ER02-1052-002, ER01-559-002, ER02-2232-001, ER98-411-011, ER03-54-001, ER02-2199-001, ER03-55-001, ER03-56-001, ER02-1028-002, ER01-205-003, ER01-2941-001, ER02-2610-001, ER02-1512-001, ER02-1319-001:

Acadia Power Partners, LLC, Acadia Power Partners, LLC, Acadia Power Partners, LLC, AES Delano, Inc., AES Delano, Inc., AES Placerita, Inc., AES Placerita, Inc., Alcan Power Marketing, Inc., Alcoa Power Generating Inc., Alcoa Power Marketing Inc., Allegheny Energy Supply Company, LLC, Amerada Hess Corporation, American Ref-Fuel Co. of Delaware Valley, L.P., American Ref-Fuel Co. of Essex County, American Ref-Fuel Company of Niagara, L.P., AmPro Energy Wholesale, Inc., ANP Bellingham Energy Company, ANP Blackstone Energy Company, ANP Funding I, L.L.C., ANP Marketing Company, Aquila Long Term, Inc., Aquila Piatt County Power L.L.C., Armstrong Energy Limited Partnership, LLLP, Astoria Energy, LLC, Astoria Generating Company, L.P., Atlantic City Electric Co., Attala Energy Company, LLC, Auburndale Peaker Energy Center, LLC, Baconton Power LLC, Baltimore Gas and Electric Company, Bangor Hydro-Electric Co, Bayswater Peaking Facility, LLC, Berkshire Power Company, LLC, Big Sandy Peaker Plant, LLC, Black Oak Energy, LLC, Black Oak Energy, LLC, Blue Canyon Windpower, LLC, Blue Spruce Energy Center, LLC, Bluegrass Generation Company, L.L.C., Blythe Energy, LLC, Boston Edison Co., Cambridge Electric Light & Cambridge Electric Co., Brascan Energy Marketing Inc., Broad River Energy LLC, Brookhaven Energy Limited Partnership, Calpine California Equipment Finance Company, LLC, Calpine Construction Finance Company, L.P., Calpine Energy Services, L.P., Calpine Energy Services, L.P., Calpine Northbrook Energy Marketing, LLC, Calpine Oneta Power, L.P., Calpine Parline, LLC, Calpine Parline, LLC, Calpine Philadelphia, Inc., Calpine PowerAmerica—CA, LLC, Calpine PowerAmerica—OR, LLC, Calvert Cliffs Nuclear Power Plant, Inc., CAM Energy Products, LP, Camden Cogen, L.P., Capital District Energy Center Cogeneration Association, Carolina Power & Light Company, Carolina Power & Light Company, Carolina Power & Light Company, Carr Street Generating Station, L.P., Cathage Energy LLC, CED Rock Springs, Inc., Cedar Brakes I, L.L.C., Cedar Breakes II, L.L.C., Centennial Power, Inc., CES Marketing II, LLC, CES Marketing III, LLC, CES Marketing IV, L.P., CES Marketing V, L.P., CinCap IV, LLC, CinCap V, LLC, CinCap VIII, LLC, Cincinnati Gas & Electric Company / PSI Energy, Inc, Cincinnati Gas & Electric Company / PSI Energy, Inc, Cincinnati Gas & Electric Company and PSI Energy, Inc., Cinergy Capital & Trading, Inc., Cinergy Power Investments, Inc., Clark Fork and Blackfoot, L.L.C., Cleco Evangeline LLC, Cleco Marketing & Trading LLC, Cleco Power LLC, Cogen Technologies NJ Venture, Cogentrix Energy Power Marketing, Inc., Colorado Green Holdings LLC, Combined Locks Energy Center, LLC, Conectiv Atlantic Generation, LLC & Conectiv Delmarva Generation, Inc., Conectiv Bethlehem, LLC, Constellation NewEnergy, Inc., Constellation Power Source Generation, Inc., Constellation Power Source Maine, LLC, Constellation Power Source, Inc., Coral Canada U.S. Inc., Coral Energy Management, LLC, Coral Power, L.L.C., CPN Bethpage 3rd Turbine, Inc., CPN Pleasant Hill, LLC and CPN Pleasant Hill Operating, LLC, Creed Energy Center, LLC, Crescent Ridge LLC, Crete Energy Venture, LLC, D.E. Shaw & Co. Energy, L.L.C., D.E. Shaw Plasma Power, L.L.C., D.E. Shaw Plasma Trading, L.L.C., Dartmouth Power Associates Limited Partnership, DB Energy Trading LLC, Delta Energy Center, LLC, Deseret Generation & Transmission Co-operative, Inc., Deseret Generation & Transmission Co-operative, Inc., Detroit Edison Company, Dighton Power Associates, L.P., Direct Energy Marketing Inc., Dispersed Generating Company, LLC, Dresden Energy, LLC, Eagle Energy Partners I, L.P., Eagle Point Cogeneration Partnership, El Paso Merchant Energy, L.P., Elk Hills Power, LLC, Emera Energy Services, Inc., Energy America LLC, Energy Atlantic, LLC, Entergy Nuclear Vermont Yankee, LLC, Entergy Power Ventures, L.P., Entergy Services, Inc., EPCOR Merchant and Capital (US) Inc, EPCOR Power Development Inc., EPDC, Inc., Epic Merchant Energy, L.P., Erie Boulevard Hydropower, L.P., Eurus Combine Hills LLC, Fairless Energy, LLC, Feather River Energy Center, LLC, Fitchburg Gas and Electric Light Company, Florida Power & Light Company, Foote Creek II, LLC, Foote Creek III, LLC, Foothills Generating, L.L.C., FortisOntario, Inc., Fox Energy Company, LLC, FPL Energy Marcus Hook, L.P., FPL Energy New Mexico Wind, LLC, FPL Energy North Dakota Wind, LLC, FPL Energy Oklahoma Wind, LLC, FPL Energy Seabrook, LLC, FPL Energy South Dakota Wind, LLC, FPL Energy Wyoming, LLC, FPLE Rohde Island State Energy, LP, Frederickson Power L.P., Front Range Power Company, LLC, Fulcrum Power Marketing LLC, Fulton Cogeneration Associates, L.P., GenWest, LLC, GenWest, LLC, Geysers Power Company, LLC, Gilroy Energy Center, LLC, Global Common Greenport, LLC, Golden Spread Electric Cooperative, Inc., Goose Haven Energy Center, LLC, Great Bay Power Marketing, Inc., Great Lakes Hydro America, LLC, Great Plains Power, Inc., Griffith Energy LLC, GS Electric Generating Cooperative, Inc., Handsome Lake Energy, LLC, HC Power Marketing LLC, Hermiston Generating Company, L.P., Hermiston Power Partnership, Hershey Chocolate & Confectionary Corp., Hess Energy Power & Gas Company, LLC, Hess Energy, Inc., High Desert Power Project, LLC, High Winds, LLC, Holland Energy, LLC, Horsehead Industries, Inc., Indeck-Oswego Limited Partnership, Indianapolis Power & Light Company, Intercom Energy, Inc., ISO New England, Inc., J. Aron & Company, Katahdin Paper Company LLC, King City Energy Center, LLC, Klamath Energy LLC, Klamath Generation LLC, Klondike Wind Power LLC, Lambie Energy Center, LLC, Liberty Electric Power, LLC, Llano Estacado Wind, LP, LMP Capital, LLC, Los Esteros Critical Energy Facility, LLC, Louis Dreyfus Energy LLC, Lowell Cogeneration Company Limited Partnership, Lowell Cogeneration Company Limited Partnership, Lower Mount Bethel Energy, LLC, Maine Public Service Co., ManChief Power Company, L.L.C., MEP Clarksdale Power, LLC, Merrill Lynch Capital Group, Inc., Mesquite Power, LLC, Milford Power Company, LLC, Milford Power Limited Partnership, Mill Run Windpower, LLC, Mirant Americas Energy Marketing, LP, Mirant Bowline, LLC, Mirant Canal, LLC, Mirant Energy Trading, LLC, Mirant Kendall, LLC, Mirant Las Vegas, LLC, Mirant Lovett, LLC, Mirant New England, LLC, Mirant NY-Gen, LLC, Mirant Oregon, LLC, Mirant Sugar Creek, LLC, Mobile Energy, LLC, Mohawk River Funding III, L.L.C., Mohawk River Funding IV, L.L.C., Moraine Wind LLC, Mountain View Power Partners II, LLC, Mountain View Power Partners, LLC, MS Retail Development Corp, MxEnergy Inc., New Mexico Electric Marketing, LLC, New York State Electric & Gas Corporation, Newark Bay Cogeneration Partnership, L.P., Nine Mile Point Nuclear Station, LLC, Northern Iowa Windpower II LLC, Northern Iowa Windpower, LLC, NorthWestern Energy Marketing, LLC, NYSEG Solutions, Inc., Ocean Peaking Power, LLC, ODEC Power Trading, Inc., Oleander Power Project, Limited Partnership, ONEOK Energy Marketing and Trading Company, L.P., Ontario Energy Trading International Corporation, Orion Power MidWest, L.P., Orion Power New York GP II, Inc., Pacific Gas and Electric Company, Pacific Northwest Generating Cooperative, PacifiCorp, Pajaro Energy Center, LLC, Pawtucket Power Associates Limited Partnership, Peak Power Generating Company, Inc., Peaker LLC, Pennsylvania Windfarms, Inc., Perryville Energy Partners, L.L.C., Phelps Dodge Energy Services, LLC, Philbro, Inc., Phoenix Wind Power LLC, Pinpoint Power, LLC, Pleasants Energy, LLC, Power Contract Finance, L.L.C., Power Contract Financing II, Inc., Power Contract Financing II, L.L.C., Power Contract Financing, L.L.C., Power Development Company, L.L.C., Power Provider LLC, Power Receivable Finance, LLC, Powerex Corp, PPL Edgewood Energy, LLC, PPL Great Works, LLC, PPL Shoreham Energy, LLC, PPL Sundance Energy, LLC, PPL University Park, LLC, PPM Energy, Inc., Progress Ventures, Inc., Quark Power L.L.C., Quest Energy, LLC, Reliant Energy Bighorn, LLC, Reliant Energy Choctaw County, Reliant Energy Electric Solutions, LLC, Reliant Energy Hunterstown, LLC, Reliant Energy Seward, LLC, Reliant Energy Solutions East, LLC, Reliant Energy Solutions West, LLC, Renaissance Power, L.L.C., Riverside Energy Center, LLC, Riverview Energy Center, LLC, RockGen Energy, LLC, Rocky Mountain Energy Center, LLC, Rolling Hills Generating, L.L.C., Rumford Power Associates, L.P., RWE Trading Americas, Inc., San Joaquin Cogen Limited, Select Energy New York, Inc., SESCO Enterprises, LLC, Shady Hills Power Company, LLC, Shell Energy Services Company, L.L.C., Sithe Energy Marketing, L.P., Sithe/Independence Power Partners, L.P., Somerset Windpower, LLC, South Glens Falls Energy, LLC, South Point Energy Center, LLC, Southern California Edison Company, Southern California Water Company, Southhaven Power, LLC, SOWEGA Power LLC, St. Paul Cogeneration, LLC, State Line Energy, L.L.C., State Line Energy, L.L.C., SWEPI LP, Tenaska Alabama Partners, L.P., Tenaska Power Services Co., Termoelectrica U.S., LLC, Texas Electric Marketing, LLC, Tiverton Power Associates, L.P., Troy Energy, LLC, Twelvepole Creek, LLC, TXU Pedricktown Cogeneration Company LP, TXU Portfolio Management Company LP, UAE Lowell Power LLC, UAE Lowell Power LLC, UBS AG, UGI Development Company, UGI Utilities, Inc., Unitil Power Corp., Unitil Resources, Inc., University Park Energy, LLC, Utility Contract Funding, L.L.C., Vandolah Power Company, L.L.C., Vineland Energy LLC, Vineland Energy, LLC, Virginia Electric and Power Company, Walton County Power, LLC, Washington County Power LLC, Waterside Power, L.L.C., Waymart Wind Farm L.P., Wellhead Power Gates, LLC, Wellhead Power Panoche, LLC, West Georgia Generating Company, LLC, Wolf Hills Energy, LLC, Wolfskill Energy Center, LLC, Wolverine Power Supply Cooperative, Inc., WPS Beaver Falls Generation, LLC, WPS Empire State, Inc., WPS Niagara Generation, LLC, WPS Syracuse Generation, LLC, Wrightsville Power Facility, LLC, Xcel Energy Services, Xcel Energy Services, XL Weather & Energy Inc., Yuba City Energy Center, LLC, Zion Energy LLC.

Take notice that on December 15, 16, and 17, 2003, the above referenced companies submitted a compliance filing in response to the Commission's November 17, 2003 Order Amending Market-based Rate Tariffs and Authorizations, in Docket No. EL01-118-000 and 001.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's web site under the “e-Filing” link. The Commission strongly encourages electronic filings.

Comment Date: January 14, 2004.

Linda Mitry,
Acting Secretary.

[FR Doc. E3-00662 Filed 12-30-03; 8:45 am]

BILLING CODE 6717-01-P